DEPARTMENT OF HEALTH AND HUMAN SERVICES

Office of Inspector General

Program Exclusions: November 2005

AGENCY: Office of Inspector General, HHS.

ACTION: Notice of program exclusions.

During the month of November 2005, the HHS Office of Inspector General imposed exclusions in the cases set forth below. When an exclusions is imposed, no program payment is made to anyone for any items or services(other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject name, address | Effective date
PROGRAM-RELATED CONVICTIONS
BASONE, RENNAE | 12/20/2005
AKRON, OH
BERTIE, LIONEL | 12/20/2005
TOLEDO, OH
BRAVO, THERESA | 12/20/2005
SAN DIEGO, CA
BROUSSARD, JERRY | 12/20/2005
BEAUMONT, TX
BRUMBAUGH, JAY | 12/20/2005
COLLINSVILLE, OK
CABRERA, DAISY | 12/20/2005
BRONX, NY
CARTER, ANGELA | 12/20/2005
OSKALOOSA, IA
CHINI, JERI | 12/20/2005
PORT CLINTON, OH
CLOSE, CHRISTOPHER | 12/20/2005
ATWATER, CA
DYE, HEATHER | 12/20/2005
MILWAUKEE, WI
EDWARDS, TERRI | 12/20/2005
GAHANNA, OH
FRID, BORIS | 12/20/2005
WOODLAND HILLS, CA
GORELICK, STUART | 12/20/2005
BLOOMFIELD HILLS, MI
HARVEY, JAMES | 12/20/2005
LAKEWOOD, WA
HARVEY, RUBY | 12/20/2005
LAKEWOOD, WA
HATHAWAY, BRIAN | 12/20/2005
REYNOLDSBURG, OH
HOWARD, JULIE | 12/20/2005
FULTON, MS
KHANNA, ARUN | 12/20/2005
STONE MOUNTAIN, GA
LOCKE, STEPHANIE | 12/20/2005
HOUSTON, TX
MASON, CLINT | 12/20/2005
FORK, SC
MERRITT, RICKLEY | 12/20/2005
GREER, SC
MILLER, MICHELLE | 12/20/2005
SHAKOPEE, MN
MOORE, MERLYN | 12/20/2005
RIALTO, CA
MR J'S LIQUOR, INC | 12/20/2005
LOS ANGELES, CA
PABBATHI, RAMMOHAN | 12/20/2005
TRENTON, NJ
PROFESSIONAL AMBULANCE SVC OF NORWICH, INC | 12/20/2005
NORWICH, CT
PROVINCE, KIMBERLY | 12/20/2005
CLARKSDALE, MS
RINGGENBERG, JULIE | 12/20/2005
OTTUMWA, IA
ROBY, JARROD | 12/20/2005
COLUMBUS, OH
ROSEL, NICOLE | 12/20/2005
COOPERSVILLE, MI
SATTARI, PARI | 12/20/2005
TARZANA, CA
SAULTER, MONROE | 12/20/2005
THREE RIVERS, TX
SCHAEFER, CHRISTA | 12/20/2005
MARICOPA, AZ
TAMAYO, HEIROL | 12/20/2005
MONTGOMERY, AL
VALLE, LUIS | 12/20/2005
GLENDALE, CA
VUKASIN, ALAN | 12/20/2005
COTTONWOOD, ID
WEILAND, JEANETTE | 12/20/2005
HURSON, SD
WHITE, ROBERT | 12/20/2005
WILSONVILLE, OR
FELONY CONVICTION FOR HEALTH CARE FRAUD
BUNKER, JASON | 12/20/2005
SAN BERNARDINO, CA
CATANZARO, DANIEL | 12/20/2005
CARTERSVILLE, GA
DENNETT, ROBIN | 12/20/2005
AUGUSTA, ME
HAMPTON, STACEY | 12/20/2005
ST LOUIS, MO
MOORE, MARK | 12/20/2005
DAYTON, OH
NJOROGE, GEOFFREY | 12/20/2005
OKLAHOMA CITY, OK
PALMER, CARLTON | 12/20/2005
COLUMBUS, OH
SIM, TOM | 12/20/2005
SANTA CLARA, CA
WHITE, JACQUESE | 12/20/2005
MEMPHIS, TN
FELONY CONTROL SUBSTANCE CONVICTION
CHLYSTA, RUSSELL | 12/20/2005
YANKTON, SD
FERNANDEX, BRENDA | 12/20/2005
NACOGDOCHES, TX
GRAYS, SONYA | 12/20/2005
WACO, TX
HAAKE, DONNA | 12/20/2005
BELLEVUE, NE
HEIKENS, ANGELA | 12/20/2005
BELLE FOURCHE, SD
KUTZNER, JAMES | 12/20/2005
LOUISVILLE, KY
MARTENS, DALE | 12/20/2005
LONDONDERRY, VT
MCCARTNEY, LUANNE | 12/20/2005
COAHOMA, TX
NYMAN, CATHERINE | 12/20/2005
DENVER, CO
ODVODY, DAWN | 12/20/2005
GREENVILLE, IL
PALMER, MARTIN | 12/20/2005
WASILLA, AK
RIOJAS, JEANETTE | 12/20/2005
DEER PARK, TX
RYABIK, BRETT | 12/20/2005
DORAVILLE, GA
SCOTT, BRUCE | 12/20/2005
QUINCY, IL
SHULTZ, ALAN | 12/20/2005
MOUNT STERLING, KY
WAY, NANCY | 12/20/2005
FT WORTH, TX
WHITAKER, DARWIN | 12/20/2005
HAZARD, KY
PATIENT ABUSE/NEGLECT CONVICTIONS
ANDERSON, ERNEIS | 12/20/2005
CLINTON, SC
BASSO, ALICIA | 12/20/2005
ROCHESTER, NY
CANTU, HELEN | 12/20/2005
MADERA, CA
CLARK, RUBY | 12/20/2005
PIONEER, LA
CLENDENEN, BRENDA | 12/20/2005
HODGEN, OK
COPES, RESHAWN | 12/20/2005
LEESVILLE, LA
HAWKINS, BRIAN | 12/20/2005
FOUNTAIN HILLS, AZ
JIMENEZ, ALICIA | 12/20/2005
LOS ANGELES, CA
LAMBERT, STEPHANIE | 12/20/2005
JANESVILLE, WI
MOENICH, KIM | 12/20/2005
CLEVELAND, OH
MOORE, MICHAEL | 12/20/2005
HENNESSEY, OK
NAVARRO, JEA | 12/20/2005
VALLEJO, CA
NORRIS, KIMBERLY | 12/20/2005
CHILDRESS, TX
POPPY, THOMAS | 12/20/2005
SPRING HILL, FL
PRADA, GERMAN | 12/20/2005
SPRINGBORO, OH
SAGUIBO, VERONICA | 12/20/2005
WAIPAHU, HI
TOLMAN, ERIC | 12/20/2005
MANTECA, CA
TOMBOYEKE, IDRISA | 12/20/2005
SILVER SPRING, MD
TROUTMAN, VICKIE | 12/20/2005
FORT VALLEY, GA
WARREN, BARTON | 12/20/2005
BELTON, SC
WELLS, KATHLEEN | 12/20/2005
KEYSTONE HEIGHTS, FL
WITTIG, THOMAS | 12/20/2005
DELAVAN, WI
CONVICTION FOR HEALTH CARE FRAUD
HILDEBRANDT, HENRY | 12/20/2005
ANN ARBOR, MI
CONTROLLED SUBSTANCE CONVICTIONS
CHANCE, JAMIE | 12/20/2005
GRAHAM, TX
LICENSE REVOCATION/SUSPENSION/SURRENDERED
ABBOTT, WINA | 12/20/2005
COALGOOD, KY
ABRAHAM, AKIVA | 12/20/2005
CLIFTON PARK, NY
ADAMS, DONNA | 12/20/2005
RIPLEY, MS
ADAMS, VICKY | 12/20/2005
DIVIDE, CO
ADKINS, ANTHONY | 12/20/2005
MOREHEAD, KY
ANDERSON, BEVERLY | 12/20/2005
GLEN ALLEN, VA
ANDERSON, JULIE | 12/20/2005
GREENWOOD, IN
ANTONE, JENNIFER | 12/20/2005
SACATON, AZ
AYALA, IRMA | 12/20/2005
EL CENTRO, CA
BARNES, DONNA | 12/20/2005
ROCKPORT, TX
BEACH, JACQUELINE | 12/20/2005
TUCSON, AZ
BERNARD, TANYA | 12/20/2005
JACKSONVILLE, FL
BIERNACKI, RICHARD | 12/20/2005
FAIRFAX, CA
BONILLA, BLANCA | 12/20/2005
MONTEBELLO, CA
BOOKOUT, CYNTHIA | 12/20/2005
PADUCAH, KY
BOUCHARD, RANDEE | 12/20/2005
PORT CHARLOTTE, FL
BOWERMAN, SHARI | 12/20/2005
YOUNGTOWN, AZ
BROOKS, HARLAN | 12/20/2005
SANTA ANA, CA
BROOKS, LORI | 12/20/2005
OLALLA, WA
BUCKETT, ROSELIE | 12/20/2005
CUDJOE KEY, FL
BUSSELL, JENNIFER | 12/20/2005
EWING, KY
CALDERON, DEBORAH | 12/20/2005
SIERRA VISTA, AZ
CAPRESECCO, CELINA | 12/20/2005
ORMOND BEACH, FL
CARLTON, SALLIE | 12/20/2005
DAWSON SPRINGS, KY
CARPINO, DEBRA | 12/20/2005
LAKE WORTH, FL
CARRINGTON, DORIS | 12/20/2005
WINCHESTER, KY
CASTLEBERRY, RHONDA | 12/20/2005
ALTHA, FL
CHAPMAN, SHARON | 12/20/2005
MILTON, WA
CHIOCO, VIVIAN | 12/20/2005
NATIONAL CITY, CA
CLAIR, WILLIAM | 12/20/2005
PHILADELPHIA, PA
COE, DENISE | 12/20/2005
PORT ORANGE, FL
COLDIRON, HOWARD | 12/20/2005
BEDFORD, VA
CONREY, THOMAS | 12/20/2005
GULF BREEZE, FL
COX, LISA | 12/20/2005
WICHITA, KS
CURTIS, SARAH | 12/20/2005
CULPEPER, VA
DARE, DAVID | 12/20/2005
MONROEVILLE, NY
DEL RICO, KIMBER | 12/20/2005
HEMET, CA
DICKIE, JUDY | 12/20/2005
DIAMONHEAD, MS
DODSON, TAMMY | 12/20/2005
STANFORD, KY
DOWNS, KEVIN | 12/20/2005
PITTSBURGH, NY
ENTEZAMI, AHMAD | 12/20/2005
CHATSWORTH, CA
EVANS, DELORES | 12/20/2005
LOMA LINDA, CA
EVANS, MARGARET | 12/20/2005
FORT WAYNE, IN
FLANNIGAN, DONNA | 12/20/2005
OAKLAND, CA
FRENCH, CHRISTINA | 12/20/2005
ARLINGTON, KY
FRIEZE, JOSEPH | 12/20/2005
JACKSON, MS
FUENTES, EVANGELO | 12/20/2005
NEW YORK, NY
GARDNER, DEBBRA | 12/20/2005
CHIPLEY, FL
GARDNER, PHYLLIS | 12/20/2005
JACKSONVILLE, FL
GARNER, DEBRA | 12/20/2005
GRAHAM, TX
GARY, PENNY | 12/20/2005
MORGANTOWN, KY
GIBBONS, MARY | 12/20/2005
WILMINGTON, NC
GILBERT, MICHAEL | 12/20/2005
HELENA, OK
GREENBERG, RICHARD | 12/20/2005
OCALA, FL
HARLAN, CHARLES | 12/20/2005
NASHVILLE, TN
HARRIS, RONALD | 12/20/2005
OPA LOCKA, FL
HIGGINS, MARGARET | 12/20/2005
HERINGTON, KS
HOETKER, MARY | 12/20/2005
LOUISVILLE, KY
HOWLAND, CHRISTOPHER | 12/20/2005
COLBERT, WA
HUANG, LAURIE | 12/20/2005
LOS ALTOS, CA
HUBNER, CAROL | 12/20/2005
LEESBURG, FL
HULL, CYNTHIA | 12/20/2005
NAMPA, ID
INMAN, ANGELA | 12/20/2005
CROSS CITY, FL
JACKSON, APRIL | 12/20/2005
WELLINGTON, FL
JACKSON, SANKEY | 12/20/2005
POLACCA, AZ
JEFFREY, MARYELLEN | 12/20/2005
TUCSON, AZ
JOHNSON, KEISHA | 12/20/2005
TAMPA, FL
JOHNSTON, MARIA | 12/20/2005
SAN LEANDRO, CA
JONES, VIOLA | 12/20/2005
DEL REY, CA
KAHLER, BARBARA | 12/20/2005
NEWCOMERSTOWN, OH
KENNEDY, ELLEN | 12/20/2005
SPRINGFIELD, MA
KINNEY, TAMMIE | 12/20/2005
CLAYPOOL, AZ
KIRBY, KEVIN | 12/20/2005
JACKSONVILLE, FL
KOBEL, JUDITH | 12/20/2005
OVERLAND PARK, KS
KRELOFF, SOFORA | 12/20/2005
CASPAR, CA
LABON, SHERRY | 12/20/2005
ESCONDIDO, CA
LAUTERBACH, DANA | 12/20/2005
DALLAS, TX
LEACHMAN, CARLA | 12/20/2005
KISSIMMEE, FL
LEHR, STEPHANIE | 12/20/2005
LONGVIEW, TX
LEWIS, MICHELLE | 12/20/2005
LYNWOOD, IL
LIM, PAUL | 12/20/2005
CHICAGO, IL
LONG, WILLIAM | 12/20/2005
MOUNT JULIET, TN
LOPER, SARAH | 12/20/2005
MILLSAP, TX
LOVELL, REBECCA | 12/20/2005
PORT ORANGE, FL
MANNY, GINA | 12/20/2005
TUCSON, AZ
MARTIN, MELODY | 12/20/2005
YUCAIPA, CA
MARTIN, SHARON | 12/20/2005
BULLHEAD CITY, AZ
MAYNOR, PATRICIA | 12/20/2005
MIDDLEBURG, FL
MCCAUSLAND, LAURA | 12/20/2005
HEREFORD, AZ
MCCLELLAN, JULIE | 12/20/2005
ORLANDO, FL
MCHALE, JANICE | 12/20/2005
FORT WRIGHT, KY
MILLER, KATHY | 12/20/2005
FARGO, ND
MITTERER, DANIEL | 12/20/2005
LONG BEACH, MS
MOHR, DOROTHY | 12/20/2005
TAMPA, FL
NABATMAMA, JEFFREY | 12/20/2005
LOS ANGELES, CA
NEWBERN, JOSEPH | 12/20/2005
HERMITAGE, TN
NEWMAN, REBECCA | 12/20/2005
NEWTON, KS
NICHOLS, NANCY | 12/20/2005
AMARILLO, TX
NOBLE, LINDA | 12/20/2005
MIAMI, FL
NOLEN, LEIGH | 12/20/2005
JACKSON, TN
NORTON, ROBERT | 12/20/2005
FT PIERCE, FL
OGUADIMMA, IKE | 12/20/2005
CHANDLER, AZ
ONABANWO, ADENIYI | 12/20/2005
CENTRAL FALLS, RI
OPATZ, KEVAN | 12/20/2005
WEST PALM BEACH, FL
ORENDORFF, ERIKA | 12/20/2005
EXTON, PA
OSAGIE, VICTOR | 12/20/2005
MIRAMAR, FL
OSBORNE, ANGEL | 12/20/2005
ATCHISON, KS
OSTAD, DAVID | 12/20/2005
OLD WESTBURY, NY
PATRICK, AMY | 12/20/2005
PANAMA CITY, FL
PECK, GREGORY | 12/20/2005
QUESTA, NM
PELLEY, KRISTEN | 12/20/2005
YARMOUTHPORT, MA
PERRONE, RUSSANNE | 12/20/2005
GILBERT, AZ
PERRY, TERESA | 12/20/2005
EMPIRE, AL
PETERSON, PHYLLIS | 12/20/2005
SAN FRANCISCO, CA
PHILLIPS, MARY | 12/20/2005
LEES SUMMIT, MO
PINKERTON, ROBIN | 12/20/2005
PROVIDENCE, RI
RAINES, FRANCIS | 12/20/2005
LOMPOC, CA
RAPP, THERESA | 12/20/2005
SARASOTA, FL
REESE, BRENT | 12/20/2005
PHOENIX, AZ
RICKETTS, L'PREE | 12/20/2005
STURGIS, KY
RIVERA, JUAN | 12/20/2005
TITUSVILLE, FL
RODRIGUEZ, NORMA | 12/20/2005
MIAMI, FL
RODRIGUEZ, SONJA | 12/20/2005
VAN NUYS, CA
ROSENDALE, GINA | 12/20/2005
MULVANE, KS
SAAVEDRA, JESSICA | 12/20/2005
SCOTTSDALE, AZ
SALLEE, KAREN | 12/20/2005
HUMBLE, TX
SEGOVIA, EFRAIM | 12/20/2005
MESA, AZ
SESTRICH, CAROL | 12/20/2005
KANSAS CITY, KS
SIRINEK, MATTHEW | 12/20/2005
KANSAS CITY, MO
SMITH, TERESA | 12/20/2005
TILINE, KY
SMITH-DEEGAN, GAIL | 12/20/2005
LOS OSOS, CA
SPEARS, VIRGINIA | 12/20/2005
ROSEVILLE, CA
SPENCE, TERRIE | 12/20/2005
BAXTER SPRINGS, KS
STEPHENS, GRACE | 12/20/2005
WICHITA, KS
STRAUB, ANNETTE | 12/20/2005
OCALA, FL
SVENDSEN, PAMELA | 12/20/2005
HICKSVILLE, NY
TAIJERON, HELEN | 12/20/2005
YUCCA VALLEY, CA
TAYLOR, CAROLYN | 12/20/2005
JACKSONVILLE, FL
TESCH, AARON | 12/20/2005
SHEPHERDSVILLE, KY
THOMPSON, ELIZABETH | 12/20/2005
CORONADO, CA
TILLMAN, KATHERINE | 12/20/2005
TUCSON, AZ
TREAT, TARA | 12/20/2005
GRENADA, MS
VAUGHN, SARAH | 12/20/2005
LONG BEACH, CA
VINAGRE, ARMANDO | 12/20/2005
APACHE JUNCTION, AZ
WATTERS, YVETTE | 12/20/2005
MIDDLEBURG, FL
WHITE, GLYNNA | 12/20/2005
LEXINGTON, KY
WILSON, DIANE | 12/20/2005
OAKLAND, CA
WORKMAN, REGINALD | 12/20/2005
LOUISVILLE, KY
FRAUD/KICKBACKS/PROHIBITED ACTS/SETTLEMENT AGREEMENTS
CR CENTRO MEDICO | 6/1/2005
MIAMI, FL
DESTINY BILLING | 6/1/2005
MIAMI, FL
GACET, JAIDYS | 6/1/2005
MIRAMAR, FL
MOIR, LISA | 6/13/2005
MORGANTON, NC
RAMOS, CELSO | 6/1/2005
MIAMI, FL
SAOUD, ALLEN | 9/2/2005
CLARKSBURG, WV
OWNED/CONTROLLED BY CONVICTED ENTITIES
JONATHAN FAMILY CHIROPRACTIC | 12/20/2005
MINNEAPOLIS, MN
MEDICARE CENTER, LC | 12/20/2005
STUART, FL
PAUL ELLIOT, D O, PA | 12/20/2005
STUART, FL
PHYSICIANS HEALTH CARE, INC | 12/20/2005
STUART, FL
PHYSICIANS HEALTH MED-CARE, INC | 12/20/2005
PEMBROKE PINES, FL
PHYSICIANS MED-CARE, INC | 12/20/2005
MIAMI, FL
ROBERT J NORTON, MD, PA | 12/20/2005
FT PIERCE, FL
ST SIMONS ISLAND CLINIC, PC | 12/20/2005
ST SIMONS ISLAND, GA
TOTAL NUTRITION, INC | 12/20/2005
MIAMI, FL
DEFAULT ON HEAL LOAN
CLARK, DOUGLAS | 12/20/2005
FLORENCE, KY
MOORE, BERNADETTE | 12/20/2005
MELBOURNE, FL
NEVAREZ-SOSTRE, EDGAR | 12/20/2005
DORADO, PR
POLLOCK, WILLIAM | 12/20/2005
AVONDALE, PA
RAINES, S | 12/20/2005
MILTON, FL

Dated: December 7, 2005.
Katherine B. Petrowski,
Director, Exclusions Staff,Office of Inspector General.

[FR Doc. E5-7454 Filed 12-15-05; 8:45 am]

BILLING CODE 4152-01-P